POSTAL SERVICE

Changes to Priority Mail Express International and Part D Country Price Lists of the Mail Classification Schedule

AGENCY: Postal Service™.

ACTION: Notice of changes to Priority Mail Express International and Part D Country Price Lists of the Mail Classification Schedule.

SUMMARY: This notice sets forth changes to Priority Mail Express International and Part D Country Price Lists of the Mail Classification Schedule.

DATES: Effective date: January 26, 2020.

FOR FURTHER INFORMATION CONTACT: Christopher C. Meyerson, 202-268-7820.

SUPPLEMENTARY INFORMATION: On October 3, 2019, pursuant to their authority under 39 U.S.C. 3632, the Governors of the Postal Service established changes in classifications to Priority Mail Express International relating to the list of destination countries offered at a discount at retail, as provided in section 2305.6 of the Mail Classification Schedule, and also authorized management to make changes to the country price list for international mail that appears in Part D of the Mail Classification Schedule to conform to official sources.

Christopher C. Meyerson,
Attorney, Corporate and Postal Business Law.

Decision of the Governors of the United States Postal Service on Changes to Priority Mail Express International and Part D Country Price Lists of the Mail Classification Schedule (Governors' Decision No. 19-4)

October 3, 2019

Statement of Explanation and Justification

Pursuant to authority under section 3632 of title 39, as amended by the Postal Accountability and Enhancement Act of 2006 (“PAEA”), we establish changes in classifications to Priority Mail Express International relating to the list of destination countries offered at a discount at retail, as provided in section 2305.6 of the Mail Classification Schedule, and also authorize management to make changes to the country price list for international mail that appears in Part D of the Mail Classification Schedule to conform to official sources.

Order

The changes in classes set forth herein shall be effective at 12:01 a.m. on January 26, 2020. We direct the Secretary to have this decision published in the Federal Register in accordance with 39 U.S.C. 3632(b)(2), and direct management to file with the Postal Regulatory Commission appropriate notice of these changes.

By The Governors:

/s/

Robert M. Duncan,

Chairman, Board of Governors.

United States Postal Service Office of the Board of Governors

Certification of Governors' Vote on Governors' Decision No. 19-4

Consistent with 39 U.S.C. 3632(a), I hereby certify that, on October 3, 2019, the Governors voted on adopting Governors' Decision No. 19-4, and that a majority of the Governors then holding office voted in favor of that Decision.

/s/

Date: October 7, 2019

Michael J. Elston,

Acting Secretary of the Board of Governors.

Part B

Competitive Products

* * *

2305 Outbound International Expedited Services

2305.1 Description

* * *

2305.6 Prices

* * *

Priority Mail Express International Offered at a Discount at Retail

If a customer requests PMI at a Postal Service retail counter for an item for which postage has not been previously paid, weight-rated PMEI may be offered to certain destinations, for certain weight steps, at a discounted price equivalent to the corresponding weight-based rate in the PMI Parcels Retail price table (2315.6), if all PMEI eligibility requirements are met and the Postal Service determines that service can be improved and/or the PMEI destination country delivery costs are lower than PMI destination country delivery costs.

Countries and Weight Steps for Which Priority Mail Express International Offered at a Discount at Retail Is Available

[FR Doc. 2019-22865 Filed 10-18-19; 8:45 am]

BILLING CODE 7710-12-P